DEPARTMENT OF DEFENSE

GENERAL SERVICES ADMINISTRATION

NATIONAL AERONAUTICS AND SPACE ADMINISTRATION

[Docket 2012-0076; Sequence 46; OMB Control No. 9000-0083]

Federal Acquisition Regulation; Information Collection; Qualification Requirements

AGENCY: Department of Defense (DOD), General Services Administration (GSA), and National Aeronautics and Space Administration (NASA).

ACTION: Notice of reinstatement request for an information collection requirement regarding an existing OMB clearance.

SUMMARY: Under the provisions of the Paperwork Reduction Act, the Regulatory Secretariat will be submitting to the Office of Management and Budget (OMB) a request to review and approve an extension of a previously approved information collection requirement concerning Qualification Requirements.

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before October 26, 2012.

ADDRESSES: Submit comments identified by Information Collection 9000-0083, Qualification Requirements, by any of the following methods:

• Regulations.gov: http://www.regulations.gov.

Submit comments via the Federal eRulemaking portal by searching the OMB control number. Select the link “Submit a Comment” that corresponds with “Information Collection 9000-0083, Qualification Requirements”. Follow the instructions provided at the “Submit a Comment” screen. Please include your name, company name (if any), and “Information Collection 9000-0083, Qualification Requirements” on your attached document.

• Fax: 202-501-4067.

• Mail: General Services Administration, Regulatory Secretariat (MVCB), 1275 First Street NE., Washington, DC 20417. ATTN: Hada Flowers/IC 9000-0083, Qualification Requirements.

Instructions: Please submit comments only and cite Information Collection 9000-0083, Qualification Requirements, in all correspondence related to this collection. All comments received will be posted without change to http://www.regulations.gov, including any personal and/or business confidential information provided.

FOR FURTHER INFORMATION CONTACT: Ms. Patricia Corrigan, Procurement Analyst, Office of Governmentwide Acquisition Policy, GSA, (202) 208-1963 or patricia.corrigan@gsa.gov.

SUPPLEMENTARY INFORMATION:

A. Purpose

FAR subpart 9.2 and the associated clause at FAR 52.209-1, implement the statutory requirements of 10 U.S.C. 2319 and 41 U.S.C. 3311, which allows an agency to establish a qualification requirement for testing or other quality assurance demonstration that must be completed by an offeror before award of a contract. Under the qualification requirements, an end item, or a component thereof, may be required to be prequalified. The clause at FAR 52.209-1, Qualification Requirements, requires offerors who have met the qualification requirements to identify the offeror's name, the manufacturer's name, source's name, the item name, service identification, and test number (to the extent known).

The contracting officer uses the information to determine eligibility for award when the clause at 52.209-1 is included in the solicitation. Alternatively, items not yet listed may be considered for award upon the submission of evidence of qualification with the offer.

B. Annual Reporting Burden

There is no Governmentwide data collection process or system, e.g., Federal Procurement Data System (FPDS) which identifies the number of solicitations issued that include qualification requirements. To date, no public comments or questions have been received regarding the burden estimates included in the currently approved clearance. However, a change is being made regarding the estimated number of responses annually from 100 (in the currently approved burden) to a more appropriate estimated average of 5 responses annually (i.e., the number of proposals received per solicitation issued). For purposes of this clearance, time required to read and prepare information remains at 15 minutes per submission assuming an offeror's use of electronic information tracking and retrieval processes.

Respondents: 2,207.

Responses per Respondent: 5.

Annual Responses: 11,035.

Hours per Response: .25.

Total Burden Hours: 2,758.

Obtaining Copies of Proposals: Requesters may obtain a copy of the information collection documents from the General Services Administration, Regulatory Secretariat (MVCB), 1275 First Street NE., Washington, DC, 20417, telephone (202) 501-4755. Please cite OMB Control No. 9000-0083, Qualification Requirements, in all correspondences.

Dated: August 17, 2012.
William Clark,
Acting Director, Federal Acquisition Policy Division, Office of Governmentwide Acquisition Policy, Office of Acquisition Policy, Office of Governmentwide Policy.

[FR Doc. 2012-20998 Filed 8-24-12; 8:45 am]

BILLING CODE 6820-EP-P